DEPARTMENT OF THE INTERIOR

Fish and Wildlife Service

Draft Recovery Plan for the Coastal-Puget Sound Distinct Population Segment of Bull Trout (Salvelinus confluentus), Volumes I and II

AGENCY: U.S. Fish and Wildlife Service, Interior.

ACTION: Notice of document availability for review and comment.

SUMMARY: The U.S. Fish and Wildlife Service (“we”) announces the availability of the Draft Recovery Plan for the Coastal-Puget Sound Distinct Population Segment of Bull Trout (Salvelinus confluentus) for public review and comment. Two separate volumes comprise the draft recovery plan for bull trout in this distinct population segment: the Puget Sound Management Unit is addressed in Volume I, and the Olympic Peninsula Management Unit is the focus of Volume II.

DATES: Comments on the draft recovery plan must be received on or before October 29, 2004.

ADDRESSES: Hard copies of the draft recovery plan will be available in 4 to 6 weeks for inspection, by appointment, during normal business hours at the following location: U.S. Fish and Wildlife Service, Western Washington Fish and Wildlife Office, 510 Desmond Drive SE., Suite 102, Lacey, Washington (telephone (360) 753-9440). Requests for copies of the draft recovery plan and written comments and materials regarding this plan should be addressed to Ken Berg, Field Supervisor, at the above Lacey address. This plan is currently available on the World Wide Web at http://endangered.fws.gov/recovery/index.html#plans.

FOR FURTHER INFORMATION CONTACT: For Volume I, the Puget Sound Management Unit, contact Jeffrey Chan, Fish and Wildlife Biologist, at the above Lacey address and telephone number. For Volume II, the Olympic Peninsula Management Unit, contact Shelley Spalding, Fish and Wildlife Biologist, at the above Lacey address and telephone number.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the recovery plan. Substantive comments regarding recovery plan implementation may not necessarily result in changes to the recovery plan, but will be forwarded to appropriate Federal or other entities so that they can take these comments into account during the course of implementing recovery actions. Individual responses to comments will not be provided.

Bull trout (Salvelinus confluentus), members of the family Salmonidae, are char native to the Pacific Northwest and western Canada. Compared to other salmonids, bull trout have more specific habitat requirements, including cold water temperatures, particularly for spawning and rearing, and the presence of complex forms of cover for all life history stages, including large woody debris, undercut banks, boulders and pools. Bull trout may be resident or may exhibit one of three migratory life history forms, including adfluvial (migrating from tributary streams to a lake or reservoir to mature), fluvial (migrating from tributary streams to larger rivers to mature), or anadromous (migrating from freshwater to the ocean to grow and mature, then returning to freshwater to spawn) behaviors.

The Coastal-Puget Sound Distinct Population Segment of bull trout encompasses all Pacific coast drainages within the State of Washington, including Puget Sound. It is separated from other populations of bull trout by the Columbia River basin to the south and the crest of the Cascade Mountain Range to the east. This population segment is highly significant to the species as a whole, since the Coastal-Puget Sound Distinct Population Segment supports all life history forms of the species, including the only known anadromous forms of bull trout in the coterminous United States. Bull trout populations in this region have been in decline as a result of both historical and current land use activities, including dams and diversions, forest management practices, fisheries management, agricultural practices, road construction and maintenance, and residential and urban development. The bull trout was listed as a threatened species in the Coastal-Puget Sound Distinct Population Segment on November 1, 1999 (64 FR 58910).

The recovery and delisting of the bull trout will depend upon the achievement of recovery goals and criteria laid out in this recovery plan. The overall recovery strategy for bull trout in the Coastal-Puget Sound Distinct Population Segment is to integrate with ongoing Tribal, State, local, and Federal management and partnerships efforts at the watershed or regional scales (e.g., Shared Strategy for Puget Sound). This coordination will maximize the opportunity for complementary actions, eliminate redundancy, and make the best use of available resources for bull trout and salmon recovery. The recovery criteria for bull trout in the Coastal-Puget Sound Distinct Population Segment are designed to demonstrate the maintenance or restoration of broadly distributed populations of bull trout, with an emphasis on migratory life forms; set target levels of adult abundance; ensure stable or increasing population trends over at least two bull trout generations; and address the restoration of connectivity between populations that are currently isolated.

At the scale of the Coastal-Puget Sound Distinct Population Segment, bull trout are broadly distributed, use a variety of habitats, and are affected by a wide array of factors. In order to account for these differences and allow recovery actions to be tailored to specific areas or threats, as well as to encourage the implementation of recovery actions by local interests, we have subdivided the population segment into two separate management units, the Puget Sound and the Olympic Peninsula. Individual draft recovery plans have been prepared for each of these management units. Volume I of the Draft Recovery Plan for the Coastal-Puget Sound Distinct Population Segment of Bull Trout covers the Puget Sound Management Unit, addressing bull trout populations in all watersheds within the Puget Sound basin north of the Columbia River in Washington and the marine nearshore areas of Puget Sound; it also includes the Chilliwack River and associated tributaries flowing into British Columbia, Canada. Volume II covers the Olympic Peninsula Management Unit, including all watersheds within the Olympic Peninsula and the nearshore marine waters of the Pacific Ocean, Strait of Juan de Fuca, and Hood Canal.

Public Comments Solicited

We solicit written comments on this draft recovery plan described. All comments received by the date specified above will be considered in developing the final recovery plan.

Authority: The authority for this action is section 4(f) of the Endangered Species Act, 16 U.S.C. 1533(f).

Dated: May 21, 2004.
David J. Wesley,
Acting Regional Director, Region 1, U.S. Fish and Wildlife Service.

[FR Doc. 04-14939 Filed 6-30-04; 8:45 am]

BILLING CODE 4310-55-P